DEPARTMENT OF LABOR

Employment and Training Administration

[TA-W-50,604]

Cessna Aircraft Company, Wichita, KS; Notice of Negative Determination Regarding Application for Reconsideration

By application of May 16, 2003, the International Association of Machinists and Aerospace workers, District Lodge #70, requested administrative reconsideration of the Department's negative determination regarding eligibility to apply for Trade Adjustment Assistance (TAA), applicable to workers and former workers of the subject firm. The denial notice was signed on April 17, 2003, and published in the Federal Register on May 7, 2003 (68 FR 24503).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Cessna Aircraft Company, Wichita, Kansas was denied because the “contributed importantly” group eligibility requirement of Section 222(3) of the Trade Act of 1974, as amended, was not met. The company did not import business jet aircraft in the relevant period, nor did they shift production to a foreign facility.

The union alleges that the company shifted production of “sections of the tail and wing assembly of the CJ-3 and Citation Soverence” to Canada, and that “this work is normally performed by” subject firm workers.

Contact with the company in regard to this allegation revealed that, although the company did outsource these components to Canada, they were never produced at the Wichita facility, thus this production is irrelevant to the investigation.

The union also alleged that airplane parts competitive with those produced in Wichita are now being produced in “Poland, Czechoslovakia, and Mexico.”

In response to this allegation, a company official stated that the company outsourced an insignificant amount of production to Poland, comprising a negligible amount of total annual production at the Wichita plant. The official also stated that, although Czechoslovakia is currently being considered as a potential outsourcing location, the company has not yet imported or used any products produced in that country. The official also stated that Mexico is currently not a serious consideration in terms of outsourcing production for the company.

Conclusion

After review of the application and investigative findings, I conclude that there has been no error or misinterpretation of the law or of the facts which would justify reconsideration of the Department of Labor's prior decision. Accordingly, the application is denied.

Signed at Washington, DC this 3rd day of June, 2003
Elliott S. Kushner,
Certifying Officer, Division of Trade Adjustment Assistance.

[FR Doc. 03-15475 Filed 6-18-03; 8:45 am]

BILLING CODE 4510-30-P